POSTAL SERVICE

Privacy Act System of Records

AGENCY: Postal Service™.

ACTION: Notice of a modified system of records.

SUMMARY: The United States Postal Service™ (USPS™) is proposing to modify a General Privacy Act System of Records to support the collection and administration of records and materials in response to potential emerging public health crises and other emergency events.

DATES: These revisions will become effective without further notice on April 4, 2022 unless comments received on or before that date result in a contrary determination.

ADDRESSES: Comments may be submitted via email to the Privacy and Records Management Office, United States Postal Service Headquarters (privacy@usps.gov). Arrangements to view copies of any written comments received, to facilitate public inspection, will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records.

I. Background

The Postal Service has determined that General Privacy Act Systems of Records (SOR), USPS 100.700, Medical Records and Related Documents, should be revised to support the collection and administration of records and materials in response to potential emerging public health crises and other emergency events.

II. Rationale for Changes to USPS Privacy Act Systems of Records

The emergence of SARS-CoV-2 (COVID-19) in early 2020 identified the need for robust set of policies and practices to ensure operational continuity and employee safety amidst an emergency event, while also protecting individual privacy. To support this endeavor, this SOR will be revised to support the collection of information related to ongoing pathogenic public health crises, including an individual's inoculation status related to an ongoing pathogenic public health crisis, as well as to collect information on positive or negative diagnostic test results related to an ongoing pathogenic public health crisis.

III. Description of the Modified System of Records

To provide for the appropriate tracking of information related to an ongoing pathogenic public health crisis, the Postal Service will revise this SOR to include two new purposes, one new category of records, and two new retention periods for that new category of records.

Pursuant to 5 U.S.C. 552a (e)(11), interested persons are invited to submit written data, views, or arguments on this proposal. A report of the proposed revisions has been sent to Congress and to the Office of Management and Budget for their evaluations. The Postal Service does not expect this amended system of records to have any adverse effect on individual privacy rights. The notice for USPS 100.700, Medical Records and Related Documents, provided below in its entirety, is as follows:

SYSTEM NAME AND NUMBER:

USPS 100.700, Medical Records and Related Documents.

SECURITY CLASSIFICATION:

None.

SYSTEM LOCATION:

USPS medical facilities, designee offices, and National Personnel Records Center.

SYSTEM MANAGER(S) AND ADDRESS:

Vice President, Human Resources, United States Postal Service, 475 L'Enfant Plaza SW, Washington, DC 20260.

AUTHORITY FOR MAINTENANCE OF THE SYSTEM:

39 U.S.C. 401, 410, 1001, 1005, and 1206.

PURPOSE(S) OF THE SYSTEM:

1. Medical information maintained in the employee medical folder is used to, but is not limited to, support hiring decisions and determine job-related medical suitability, fitness for duty, and Family Medical Leave Act documentation.

2. To implement a controlled substance and alcohol testing program for employees in safety-sensitive positions.

3. To provide for the uniform collection and compilation of controlled substance and alcohol test results.

4. To assess disability retirement requests.

5. To assist in making determinations about reasonable accommodation.

6. To verify vaccination status related to an ongoing pathogenic public health crisis, to record such status within a roster, and to disclose record relating to this vaccination status to an employee's medical records file.

7. To track COVID-19 medical tests, to record results of those tests within a roster, and to disclose records relating to this vaccination status to an employee's medical records file.

CATEGORIES OF INDIVIDUALS COVERED BY THE SYSTEM:

1. Current and former USPS employees.

2. Individuals who have been offered employment but were determined medically unsuitable or who declined the offer.

3. Current and former USPS employees who are or were required to have a commercial driver's license (CDL) or are otherwise subject to controlled substance and alcohol testing.

4. Applicants and current or former USPS employees, or persons who request reasonable accommodation on behalf of an applicant or employee.

CATEGORIES OF RECORDS IN THE SYSTEM:

1. Employee or applicant information: Name, Social Security Number, Employee Identification Number, Candidate Identification Number, date of birth, postal assignment information, work contact information, finance number(s), duty location, and pay location.

2. Employee Medical Folder: Restricted medical records, administrative medical records, and OWCP-related medical records.

3. Controlled substance and alcohol testing information: Records related to alcohol and controlled substance test results, refusals, medical review officer's evaluations, employee statements, and substance abuse professionals' evaluations and referrals.

4. Reasonable Accommodation folders: These folders document the decision-making process and contain records related to requests for Reasonable Accommodation.

5. COVID-19 Related Medical Records: Records related to the COVID-19 public health crisis, including copies of COVID-19 Vaccination Record Cards, and Records of COVID-19 immunization from a health care provider or pharmacy, copies of COVID-19 immunization records from public health, state, or tribal immunization information system.

RECORD SOURCE CATEGORIES:

Employees, applicants for employment; applicant or employee health care provider(s), USPS and Department of Veterans Affairs medical staff, USPS designee testing facilities, substance abuse professionals, and designated contractors.

ROUTINE USES OF RECORDS MAINTAINED IN THE SYSTEM, INCLUDING CATEGORIES OF USERS AND THE PURPOSES OF SUCH USES:

Standard routine uses 1 through 9 apply. In addition:

a. Medical records may be disclosed to an employee's private treating physician and to medical personnel retained by USPS to provide medical examinations or treatment for an employee's health or physical condition related to employment.

POLICIES AND PRACTICES FOR STORAGE OF RECORDS:

Automated database, computer storage media, digital files, and paper files.

POLICIES AND PRACTICES FOR RETRIEVAL OF RECORDS:

By employee or applicant name, Social Security Number, Employee Identification Number, Candidate Identification Number, or duty or pay location.

POLICIES AND PRACTICES FOR RETENTION AND DISPOSAL OF RECORDS:

1. The Employee Medical Folder is retained by USPS until the employee is separated from USPS. On an annual basis, records of all employees separated during the prior year are transferred to the National Personnel Records Center and retained for 30 years.

2. Candidate medical information for applicants determined to be medically unsuitable for the position offered is retained 2 years in hard copy. Computer data is retained 3 years in a history database.

3. Documentation supporting applicant requests for reasonable accommodation for participation in the hiring or assessment process are maintained for 2 years in hard copy. Computer records of such requests are retained 3 years.

4. Reasonable Accommodation Committee and District Reasonable Accommodation Committee records are maintained for the duration of the employee's tenure with the USPS or until any appeals are adjudicated, whichever is longer. After the official use for these records has been satisfied, the records are to be placed in a sealed envelope, labeled as “Reasonable Accommodation Committee Records,” and placed in the employee medical folder (EMF) and retained in accordance with the official retention period for the EMFs.

5. Alcohol test results indicating a breath alcohol concentration of 0.02 or greater, verified positive controlled substance test results, refusals, medical review officer's evaluations, employee statements, and substance abuse professionals' evaluations and referrals are retained 5 years. Alcohol test results indicating a breath alcohol concentration of less than 0.02, and negative and canceled controlled substance test results, are retained 1 year.

6. COVID-19 Test results are retained for one year after the expiration of Postal Service COVID-19 Policies.

7. COVID-19 Vaccination Status is retained for one year after the expiration of Postal Service COVID-19 Policies.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedure below and Record Access Procedures above.

NOTIFICATION PROCEDURES:

Individuals wanting to know if information about them is maintained in this system must address inquiries to the facility head where currently or last employed. Headquarters employees must submit inquiries to the National Medical Director, Health and Resource Management, 475 L'Enfant Plaza SW, Washington, DC 20260. Individuals who requested accommodation for an entrance examination or assessment must submit inquiries to the Manager of Selection, Evaluation, and Recognition, 475 L'Enfant Plaza SW, Washington, DC 20260. Inquiries must include full name, Social Security Number or Employee Identification Number, name and address of facility where last employed, and dates of USPS employment or date of application.

EXEMPTIONS PROMULGATED FOR THE SYSTEM:

None.

HISTORY:

June 17, 2011, 76 FR 35483; April 29, 2005, 70 FR 22516

* * * * *

Sarah E. Sullivan,
Attorney, Ethics and Legal Compliance.

[FR Doc. 2022-03242 Filed 3-3-22; 8:45 am]

BILLING CODE 7710-12-P